DEPARTMENT OF THE INTERIOR

National Park Service

Jamestown Project Development Concept Plan, Final Environmental Impact Statement, Colonial National Historical Park, Jamestown Unit, Jamestown, Virginia, and Jamestown National Historic Site, Jamestown, VA

AGENCY: National Park Service, Department of the Interior.

ACTION: Notice of Availability of the Final Environmental Impact Statement for the Jamestown Project Development Concept Plan, Colonial National Historic Park, Jamestown Unit, and Jamestown National Historic Site.

SUMMARY: Pursuant to National Environmental Policy Act of 1969, 42 U.S.C. 4332(c), the National Park Service announces the availability of Final Environmental Impact Statement for the Jamestown Project Development Concept Plan, Colonial National Historical Park, Jamestown Unit, Jamestown, Virginia, and Jamestown National Historic Site, Jamestown, Virginia

DATES: The National Park Service will execute a Record of Decision (ROD) no sooner than 30 days following publication by the Environmental Protection Agency of the notice of availability of the Final Environmental Impact Statement.

ADDRESSES: Information will be available for public review in the office of the Superintendent, Colonial National Historical Park, Yorktown, Virginia, in the administrative offices located below the Yorktown Visitor Center. It will also be available at the following locations: Jamestown Visitor Center, Jamestown, VA, Colonial National Historical Park, Gloucester County Library, Hampton City Library, James City County Library, John D. Rockefeller, Jr. Library, Newport News City Library, Surry County Library, Williamsburg Regional Library, York County Public Library.

FOR FURTHER INFORMATION CONTACT: Mike Litterest, Information Officer, Colonial National Historical Park, 757/898-2409.

Dated: March 14, 2003
Marie Rust,
Director, Northeast Region, National Park Service.

[FR Doc. 03-7945 Filed 4-1-03; 8:45 am]

BILLING CODE 4310-70-M